DEPARTMENT OF TRANSPORTATION

Office of the Secretary

Aviation Proceedings, Agreements Filed During Week Ending June 22, 2001

The following Agreements were filed with the Department of Transportation under provisions of 49 U.S.C. sections 412 and 414. Answers may be filed within 21 days after the filing of the applications.

Docket Number: OST-2001-9957.

Date Filed: June 19, 2001.

Parties: Members of the International Air Transport Association.

Subject:

PTC31 SOUTH 0108 dated 25 May 2001

South Pacific (except New Zealand-USA) Resolution r1-r31

Minutes—PTC31 SOUTH 0109 dated 8 June 2001

Tables—PTC31 SOUTH 0026 Fares dated 15 June 2001

Intended effective date: 1 October 2001.

Docket Number: OST-2001-9990.

Date Filed: June 22, 2001.

Parties: Members of the International Air Transport Association.

Mail Vote 130 Resolution 010e Special Passenger

Amending Resolution e-mail te418

Intended effective date: 1 July 2001.

Dorothy Y. Beard,
Federal Register Liaison.

[FR Doc. 01-16859 Filed 7-5-01; 8:45 am]

BILLING CODE 4910-62-P